DEPARTMENT OF AGRICULTURE

National Agricultural Statistics Service

Notice of Intent To Request Revision and Extension of a Currently Approved Information Collection

AGENCY: National Agricultural Statistics Service.

ACTION: Notice and request for comments.

SUMMARY: In accordance with the Paperwork Reduction Act of 1995, this notice announces the intention of the National Agricultural Statistics Service (NASS) to request revision and extension of a currently approved information collection, the Nursery Production Survey and the Nursery and Floriculture Chemical Use Survey. Revision to burden hours will be needed due to the discontinuation of the Nursery and Christmas Tree Production Survey and the Nursery and Floriculture Chemical Use Survey, along with minor changes in the size of the target population, and/or questionnaire length for the two remaining surveys (Oregon Nursery Survey and the Oregon Christmas Tree Survey).

DATES: Comments on this notice must be received by July 25, 2016 to be assured of consideration.

ADDRESSES: You may submit comments, identified by docket number 0535-0244, by any of the following methods:

• Email: ombofficer@nass.usda.gov. Include docket number above in the subject line of the message.

• E-fax: (855) 838-6382.

• Mail: Mail any paper, disk, or CD-ROM submissions to: David Hancock, NASS Clearance Officer, U.S. Department of Agriculture, Room 5336 South Building, 1400 Independence Avenue SW., Washington, DC 20250-2024.

• Hand Delivery/Courier: Hand deliver to: David Hancock, NASS Clearance Officer, U.S. Department of Agriculture, Room 5336 South Building, 1400 Independence Avenue SW., Washington, DC 20250-2024.

FOR FURTHER INFORMATION CONTACT: R. Renee Picanso, Associate Administrator, National Agricultural Statistics Service, U.S. Department of Agriculture, (202) 720-2707. Copies of this information collection and related instructions can be obtained without charge from David Hancock, NASS—OMB Clearance Officer, at (202) 690-2388 or at ombofficer@nass.usda.gov.

SUPPLEMENTARY INFORMATION:

Title: Nursery and Christmas Tree Production Survey.

OMB Control Number: 0535-0244.

Expiration Date of Approval: September 30, 2016.

Type of Request: Intent to revise and extend a currently approved information collection for a period of three years.

Abstract: The primary objective of the National Agricultural Statistics Service (NASS) is to prepare and issue State and national estimates of crop and livestock production, prices, and disposition, as well as economic statistics, environmental statistics related to agriculture and also to conduct the Census of Agriculture. The Nursery and Floriculture Chemical Use Survey (NFCUS) was created to develop a database of chemicals and cropping practices for this particular industry. The survey was conducted every three years for the reference periods of 2000, 2003, 2006 and 2009. The Nursery and Christmas Tree Production Survey (NCTPS) was conducted in conjunction with the chemical use survey for the years 2000, 2003, and 2006. For the 2009 reference year the Census of Horticulture replaced this survey. The Census of Horticulture (OMB # 0535-0236) is now conducted every five years and has filled the need for nursery production data. With the creation of the NFCUS database and current budget constraints the NFCUS and NCTPS surveys have been discontinued. Historically, the Oregon Nursery Survey and the Oregon Christmas Tree Survey have been conducted under cooperative agreements with the state of Oregon. This information collection package will now only include these two remaining surveys.

Authority: These data will be collected under authority of 7 U.S.C. 2204(a). Individually identifiable data collected under this authority are governed by Section 1770 of the Food Security Act of 1985 as amended, 7 U.S.C. 2276, which requires USDA to afford strict confidentiality to non-aggregated data provided by respondents. This Notice is submitted in accordance with the Paperwork Reduction Act of 1995, (Pub. L. 104-113) and Office of Management and Budget regulations at 5 CFR part 1320 (60 FR 44978, August 29, 1995).

NASS also complies with OMB Implementation Guidance, “Implementation Guidance for Title V of the E-Government Act, Confidential Information Protection and Statistical Efficiency Act of 2002 (CIPSEA),” Federal Register, Vol. 72, No. 115, June 15, 2007, p. 33376.

Estimate of Burden: The retirement of the Nursery and Christmas Tree Production Surveys along with the Nursery and Floriculture Chemical Use Survey will reduce the burden estimate by approximately 4,200 hours from the previous approval. Respondent burden for the two remaining surveys will be approximately 900 hours. The questionnaires are estimated to take the respondents approximately 20 to 30 minutes to complete. Publicity materials and the instruction sheet will account for about 5 minutes of additional burden per respondent. Respondents who refuse to complete a survey will be allotted 2 minutes of burden per attempt to collect the data.

Respondents: Producers of nursery, greenhouse, and floriculture products.

Estimated Annual Number of Respondents: The Oregon Nursery Production Survey and the Oregon Christmas Tree Production Survey have a combined sample size of approximately 1,800.

Estimated Total Annual Burden on Respondents: Approximately 900 hours.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, through the use of appropriate automated, electronic, mechanical, technological or other forms of information technology collection methods.

All responses to this notice will become a matter of public record and be summarized in the request for OMB approval.

Signed at Washington, DC, May 18, 2016.
R. Renee Picanso,
Associate Administrator.

[FR Doc. 2016-12493 Filed 5-25-16; 8:45 am]

BILLING CODE 3410-20-P